DEPARTMENT OF TRANSPORTATION

Federal Aviation Administration

14 CFR Part 71

[Docket No. FAA-2004-17427; Airspace Docket No. 04-ACE-27]

Modification of Class E Airspace; Oshkosh, NE

AGENCY: Federal Aviation Administration (FAA), DOT.

ACTION: Direct final rule; request for comments; correction.

SUMMARY: This action corrects a direct final rule; request for comments that was published in the Federal Register on Tuesday, May 11, 2004, (69 FR 26029) [FR Doc. 04-10636] and subsequently corrected in the Federal Register on Tuesday, May 25, 2004, (69 FR 29653) [FR Doc. 04-11787]. It corrects an error in the legal description.

DATES: This direct final rule is effective on 0901 UTC, August 5, 2004.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register Document 04-10636, published on Tuesday, May 11, 2004, (69 FR 26029) modified the Class E airspace area at Oshkosh, NE. The modification emended discrepancies in the dimensions and legal description of controlled airspace around Garden County Airport at Oshkosh, NE. A format error in this airspace change was later corrected in Federal Register Document 04-11787, published on Tuesday, May 25, 2004, (69 FR 29653). Since the above actions two area navigation (RNAV) global positioning system (GPS) standard instrument approach procedures (SIAPs) and one nondirectional radio beacon (NDB) SIAP have been developed to serve Garden County Airport. These SIAPs necessitate a further correction to Class E airspace area at Oshkosh, NE as published in the Federal Register on Tuesday, May 11, 2004.

Accordingly, pursuant to the authority delegated to me, the legal description of Oshkosh, NE Class E airspace, as published in the Federal Register on Tuesday, May 11, 2004, (69 FR 26029) [FR Doc. 04-10636] is corrected as follows:

§ 71.1 [Corrected]

On page 26030, Column 2, replace the third paragraph with:

ACE NE E5 Oshkosh, NE

Garden County Airport, NE

(Lat. 41°24′04″ N., long. 102°21′18″ W.)

That airspace extending upward from 700 feet above the surface within a 9.5-mile radius of Garden County Airport.

Issued in Kansas City, MO, on June 8, 2004.
Elizabeth S. Wallis,
Acting Manager, Air Traffic Division, Central Region.

[FR Doc. 04-13825 Filed 6-17-04; 8:45 am]

BILLING CODE 4910-13-M